DEPARTMENT OF TRANSPORTATION

Surface Transportation Board

[STB Finance Docket No. 34691]

Stockton Terminal & Eastern Railroad—Acquisition and Operation Exemption—Rail Line of Union Pacific Railroad Company

Stockton Terminal & Eastern Railroad (STE), a Class III rail carrier, has filed a verified notice of exemption under 49 CFR 1150.41 to acquire, from Union Pacific Railroad Company (UP), and operate approximately 1.07-miles of rail line (UP's former Oakdale Branch), between milepost 91.83 and the end of the track at California State Highway 99, milepost 92.9 in Stockton, San Joaquin County, CA.

STE indicates that the transaction will be consummated no sooner than 7 days after filing this notice. Because the notice was filed on April 14, 2005, the earliest the transaction could be consummated was April 21, 2005. STE certified that its projected revenues as a result of this transaction would not result in the creation of a Class II or Class I rail carrier.

If the notice contains false or misleading information, the exemption is void ab initio. Petitions to revoke the exemption under 49 U.S.C. 10502(d) may be filed at any time. The filing of a petition to revoke will not automatically stay the transaction.

An original and 10 copies of all pleadings, referring to STB Finance Docket No. 34691, must be filed with the Surface Transportation Board, 1925 K Street, NW., Washington, DC 20423-0001. In addition, one copy of each pleading must be served on Thomas F. McFarland, 208 South LaSalle Street, Suite 1890, Chicago, IL 60604-1112.

Board decisions and notices are available on our Web site at www.stb.dot.gov.

Decided: April 25, 2005.
By the Board, David M. Konschnik, Director, Office of Proceedings.
Vernon A. Williams,
Secretary.

[FR Doc. 05-8800 Filed 5-4-05; 8:45 am]

BILLING CODE 4915-01-P